DEPARTMENT OF TRANSPORTATION

Federal Aviation Administration

Passenger Facility Charge (PFC) Program; Draft FAA Order 5500.1B

AGENCY: Federal Aviation Administration (FAA), DOT.

ACTION: Notice and request for comments, extension of comment period.

SUMMARY: FAA is extending the comment period on the draft FAA Order 5500.1B, Passenger Facility Charge published on August 5, 2016. This draft Order clarifies and updates statutory and regulatory requirements, including those affected by changes to the PFC statute from multiple FAA reauthorizations.

DATES: The comment period for the draft FAA Order 5500.1B published on August 5, 2016 is extended from September 30, 2016 to October 31, 2016.

ADDRESSES: An electronic copy of draft FAA Order 5500.1B is available through the Internet at the FAA Airports Web site at http://www.faa.gov/airports/. You may submit comments using the Draft PFC Order 5500.1B Comment Form available at the same web address, using any of the following methods:

• Email: 9-faa-arp-pfc-order-55001b@faa.gov.

• Facsimile: (202) 267-5302.

• Mail: FAA Office of Airports, Office of Airport Planning and Programming, Financial Analysis and PFC Branch (APP-510), Room 619E, 800 Independence Avenue SW., Washington, DC 20591.

For more information on the notice and comment process, see the SUPPLEMENTARY INFORMATION section of this document.

FOR FURTHER INFORMATION CONTACT: Joe Hebert, Manager, Financial Analysis and Passenger Facility Charge Branch, APP-510, Federal Aviation Administration, 800 Independence Avenue SW., Washington, DC 20591, telephone (202) 267-8375; facsimile (202) 267-5302.

SUPPLEMENTARY INFORMATION: On August 5, 2016, the FAA published a notice titled “Notice and Request for Comments” (81 FR 51963). In that Notice, the FAA announced a request for comments on the draft FAA Order 5500.1B. The notice requested that interested parties submit written comments by September 30, 2016.

On August 19, 2016, three industry associations (Airlines for America, Airports Council International—North America, and the American Association of Airport Executives) submitted a joint request to extend the comment period by 30 days for several reasons. After careful consideration, the FAA has decided to extend the comment period for 31 days until October 31, 2016.

Issued in Washington, DC, on September 13, 2016.
Elliott Black,
Director, Office of Airport Planning and Programming.

[FR Doc. 2016-22721 Filed 9-20-16; 8:45 am]

BILLING CODE 4910-13-P